DEPARTMENT OF LABOR

Mine Safety and Health Administration

Proposed Information Collection Request Submitted for Public Comment and Recommendations: Certificate of Electrical/Noise Training

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

DATES: Submit comments on or before January 22, 2001.

ADDRESSES: Send comments to Brenda C. Teaster, Acting Chief, Records Management Division, 4015 Wilson Boulevard, Room 609A, Arlington, VA 22203-1984. Commenters are encouraged to send their comments on a computer disk, or via E-mail to bteaster@msha.gov, along with an original printed copy. Ms. Teaster can be reached at (703) 235-1470 (voice) or (703) 235-1563 (facsimile).

FOR FURTHER INFORMATION CONTACT: Brenda C. Teaster, Acting Chief, Records Management Division, U.S. Department of Labor, Mine Safety and Health Administration, Room 709A, 4015 Wilson Boulevard, Arlington, VA 22203-1984. Ms. Teaster can be reached at bteaster@msha.gov (Internet E-mail), (703) 235-1470 (voice), or (703) 235-1563 (facsimile).

SUPPLEMENTARY INFORMATION:

I. Background

MSHA qualifies mine electricians and certifies persons to take noise level measurements in coal mines. MSHA Form 5000-1 is used to report to MSHA those miners who have satisfactorily completed (1) a coal mine electrical training program; or (2) a noise training course. Based on the information submitted on Form 5000-1, MSHA issues certification cards that identify these individuals as qualified to perform certain tasks at the mine. Title 30 CFR 75.153(a)(2) and 77.103(a)(2) require that a program be provided for the qualification of certain experienced personnel as mine electricians. Title 30 CFR 70.504 and 71.801 require that mine operators measure the noise levels to which each miner is exposed and that these measurements be taken by a person who has been certified by the Assistant Secretary of Labor for Mine Safety and Health as qualified. A qualified person is one who has been certified by MSHA as an instructor in noise measurement training programs; or has completed a noise training course conducted by and approved by MSHA.

II. Desired Focus of Comments

Currently, the Mine Safety and Health Administration (MSHA) is soliciting comments concerning the proposed extension of the information collection related to the Certificate of Electrical/Noise Training. MSHA is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request can be obtained by contacting the employee listed below in the For Further Information Contact section of this notice.

III. Current Actions

MSHA uses the information from MSHA Form 5000-1 to issue certification cards to those persons who are qualified. MSHA inspectors may ask to see the cards to determine compliance with regulations during routine inspections. Mine operators use the cards to determine a person's qualifications to perform certain tasks and when hiring new personnel. The information is also used by MSHA to determine mine operators' compliance with approved training plans, to monitor safety training programs, and in reporting to Congress.

Type of Review: Extension.

Agency: Mine Safety and Health Administration.

Title: Certificate of Electrical/Noise Training.

OMB Number: 1219-0001.

Agency Number: MSHA Form 5000-1.

Affected Public: Business or other for-profit institutions.

Total Respondents: 5,605.

Frequency: On occasion.

Total Responses: 5,605.

Average Time per Response: 4.59 hours.

Total Burden Hours: 25,710.

Total Burden Hour Cost: $795,009.

Total Burden Cost (capital/startup): $0.

Total Burden Cost (operating/maintaining): $1,349,004.

Comments submitted in response to this notice will be summarized and/or included in the request for Office of Management and Budget approval of the information collection request; they will also become a matter of public record.

Dated: November 16, 2000.
Brenda C. Teaster,
Acting Chief, Records Management Division.

[FR Doc. 00-29844 Filed 11-21-00; 8:45 am]

BILLING CODE 4510-43-M